DEPARTMENT OF AGRICULTURE

Agricultural Marketing Service

[Doc. No. AMS-DA-17-0055]

Notice of Request for Extension and Revision of a Currently Approved Information Collection for the Dairy Product Mandatory Reporting Program

AGENCY: Agricultural Marketing Service, USDA.

ACTION: Notice and request for comments.

SUMMARY: In accordance with the Paperwork Reduction Act of 1995, this notice announces the Agricultural Marketing Service's (AMS) intention to request an extension and revision of a currently approved information collection under the Dairy Product Mandatory Reporting Program. The information collected supports the marketing of dairy products and is used to verify compliance with Federal milk marketing regulations.

DATES: Comments on this notice must be received by November 28, 2017, to be considered.

ADDRESSES: Comments should be submitted at the Federal eRulemaking portal: www.regulations.gov. Comments may also be filed with Roger Cryan, Director, Economics Division, USDA/AMS/Dairy Program, STOP 0229—Room 2753, 1400 Independence Avenue SW., Washington, DC 20250-0229; roger.cryan@ams.usda.gov. Comments should reference the docket number and the date and page number of this issue of the Federal Register, as well as OMB No. 0581-0274 and the Dairy Product Mandatory Reporting Program. All comments will be made available for public inspection in the Office of the Hearing Clerk during regular business hours, or can be viewed at: www.regulations.gov.

FOR FURTHER INFORMATION CONTACT: Roger Cryan, Director, Economics Division, USDA/AMS/Dairy Program, STOP 0229—Room 2753, 1400 Independence Avenue SW., Washington, DC 20250-0229; roger.cryan@ams.usda.gov.

SUPPLEMENTARY INFORMATION:

Title: Dairy Products Mandatory Sales Reporting.

OMB Number: 0581-0274.

Expiration Date of Approval: April 30, 2018.

Type of Request: Extension and revision of a currently approved collection.

Abstract: Under the Agricultural Marketing Act of 1946 (7 U.S.C. 1621 et seq.), as amended, persons engaged in manufacturing dairy products are required to provide to the Department of Agriculture (USDA) certain information, including the price, quantity, and moisture content, where applicable, of dairy products sold by the manufacturer. Manufacturers and other persons storing dairy products must also report to USDA information on the quantity of dairy products stored. This information is used by USDA to help administer Federal programs and is used by the dairy industry in planning, pricing, and projecting supplies of milk and milk products.

Under the Dairy Product Mandatory Reporting Program (7 CFR part 1170), various manufacturer reports are filed electronically on a weekly basis. USDA publishes composites of the information obtained to help industry members make informed marketing decisions regarding dairy products. The information is also used to establish minimum prices for Class III and Class IV milk under Federal milk marketing orders. Additional paper forms are filed by manufacturers on an annual basis to validate participation in the mandatory reporting program. USDA uses the information collected to verify compliance with applicable regulations.

Only authorized representatives of USDA, including AMS Dairy Program's regional and headquarters staff, have access to information provided on the forms.

Requesting public comments on the information collection and forms described below is part of the process to obtain approval through the Office of Management and Budget (OMB). Forms needing OMB approval are contained in OMB No. 0581-0274 and include forms for reporting cheddar cheese price, volume, and moisture content (DY-202 and DY-203); butter price and volume (DY-201); nonfat dry milk price and volume (DY-205); and dry whey price and volume (DY-204). Annual validation information is reported on Forms DA-230 and DA-230-S. Manufacturers and others who are required to file reports under this program must also maintain original records associated with the sale and storage of dairy products for two years and must make those records available to USDA upon request. Manufacturers who produce and market less than one million pounds of cheddar cheese, butter, nonfat dry milk, or dry whey are exempt from the reporting requirements for those products.

Information collection requirements included in this request for an extension are as follows:

(1) Dairy Products Sales, Cheddar Cheese, 40-Pound Blocks

Estimate of Burden: The public reporting burden for this collection of information is estimated to average 20 minutes per week for each report submitted.

Respondents: Cheddar cheese manufacturers of 40-pound blocks. Each reporting entity may report for a single cheddar cheese plant or it may report for more than one cheddar cheese plant, depending upon how the business is structured.

Estimated Number of Respondents: 16.

Estimated Number of Responses per Respondent: 52.

Estimated Total Annual Burden on Respondents: 277 hours.

(2) Dairy Products Sales, Cheddar Cheese, 500-Pound Barrels

Estimate of Burden: The public reporting burden for this collection of information is estimated to average 20 minutes per week for each report submitted.

Respondents: Cheddar cheese manufacturers of 500-pound barrels. Each reporting entity may report for a single cheddar cheese plant or it may report for more than one cheddar cheese plant, depending upon how the business is structured.

Estimated Number of Respondents: 13.

Estimated Number of Responses per Respondent: 52.

Estimated Total Annual Burden on Respondents: 225 hours.

(3) Dairy Products Sales, Butter

Estimate of Burden: The public reporting burden for this collection of information is estimated to average 20 minutes per week for each report submitted.

Respondents: Butter manufacturers. Each reporting entity may report for a single butter plant or it may report for more than one butter plant, depending upon how the business is structured.

Estimated Number of Respondents: 22.

Estimated Number of Responses per Respondent: 52.

Estimated Total Annual Burden on Respondents: 381 hours.

(4) Dairy Products Sales, Nonfat Dry Milk

Estimate of Burden: The public reporting burden for this collection of information is estimated to average 20 minutes per week for each report submitted.

Respondents: Nonfat dry milk (NFDM) manufacturers. Each reporting entity may report for a single NFDM plant or it may report for more than one NFDM plant, depending upon how the business is structured.

Estimated Number of Respondents: 29.

Estimated Number of Responses per Respondent: 52.

Estimated Total Annual Burden on Respondents: 503 hours.

(5) Dairy Products Sales, Dry Whey

Estimate of Burden: The public reporting burden for this collection of information is estimated to average 20 minutes per week for each report submitted.

Respondents: Dry whey manufacturers. Each reporting entity may report for a single dry whey plant or it may report for more than one dry whey plant, depending upon how the business is structured.

Estimated Number of Respondents: 18.

Estimated Number of Responses per Respondent: 52.

Estimated Total Annual Burden on Respondents: 312 hours.

(6) Annual Validation Survey

Estimate of Burden: The public reporting burden for this collection of information is estimated to average 20 minutes per year for each report submitted.

Respondents: Dairy manufacturers. Each reporting entity may report for a single plant or it may report for more than one plant, depending upon how the business is structured.

Estimated Number of Respondents: 114.

Estimated Number of Responses per Respondent: 1.

Estimated Total Annual Burden on Respondents: 38 hours.

(7) Survey Follow-Up, Verification

Estimate of Burden: The public reporting burden for this collection of information is estimated to average 5 minutes for each contact from AMS.

Respondents: Dairy manufacturers. Each reporting entity may report for a single plant or it may report for more than one plant, depending upon how the business is structured. AMS may contact manufacturers as necessary to follow up on missing or incomplete reports and ensure that accurate information is provided.

Estimated Number of Respondents: 7.

Estimated Number of Responses per Respondent: 52.

Estimated Total Annual Burden on Respondents: 30 hours.

Comments are invited on: (1) Whether the proposed collection of the information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the collection of information on those who are to respond, including through the use of appropriate automated, electronic, mechanical, or other technological collection techniques or other forms of information technology.

All responses to this notice will be summarized and included in the request for OMB approval. All comments will also become a matter of public record.

Dated: September 25, 2017.
Bruce Summers,
Acting Administrator, Agricultural Marketing Service.

[FR Doc. 2017-20870 Filed 9-28-17; 8:45 am]

BILLING CODE 3410-02-P